DEPARTMENT OF HEALTH AND HUMAN SERVICES

Centers for Disease Control and Prevention

National Vaccine Advisory Committee, Subcommittee on Future Vaccines, Subcommittee on Immunization Coverage, and Subcommittee on Vaccine Safety and Communication Meetings

In accordance with section 10(a)(2) of the Federal Advisory Committee Act (Pub. L. 92-463), the Centers for Disease Control and Prevention (CDC) announces the following Federal advisory committee meetings.

Name: National Vaccine Advisory Committee (NVAC).

Times and Dates: 9 a.m.-2:45 p.m., February 28, 2000.

8:30 a.m.-4:15 p.m., February 29, 2000.

Place: Hubert H. Humphrey Building, Room 505A, 200 Independence Avenue, SW, Washington, DC 20201.

Status: Open to the public, limited only by the space available.

Notice: In the interest of security, the Department has instituted stringent procedures for entrance to the Hubert H. Humphrey Building by non-government employees. Thus, persons without a government identification card should plan to arrive at the building each day either between 8 a.m. and 8:30 a.m. or 12:30 p.m. and 1 p.m. Entrance to the meeting at other times during the day cannot be assured.

Purpose: This committee advises and makes recommendations to the Director of the National Vaccine Program on matters related to the Program responsibilities.

Matters to be Discussed: Agenda items will include: an update on the National Vaccine Program Office (NVPO) activities; an update on Unmet Needs Funding; an update on Pandemic Planning; Global Plan of Action for Laboratory Containment of Poliovirus; an update on Polio Eradication; Global Vaccines—White House Initiatives; Emerging Issues in Vaccine Safety; Vaccine Safety and Communication Subcommittee Report; Immunization Coverage Subcommittee Report; Future Vaccines Subcommittee Report; update from the Office of the Assistant Secretary for Health and Surgeon General; Healthy People 2010-Update on Vaccines; Annual Report on the Vaccine Injury Compensation Program; ACIP Annual Report; Budget Status on 317, CBER, Pandemic Influenza and Vaccine Safety Implementation Plan; and an update on Immunization Registries.

Name: Subcommittee on Future Vaccines.

Time and Date: 2:45 p.m.-5:00 p.m., February 28, 2000.

Place: Hubert H. Humphrey Building, Room 305A, 200 Independence Avenue, SW, Washington, DC 20201.

Status: Open to the public, limited only by the space available.

Purpose: This subcommittee develops policy options and guides national activities that lead to accelerated development, licensure, and the best use of new vaccines in the simplest possible immunization schedules.

Matters to be Discussed: Agenda items will include discussions on the Institute of Medicine Report “Vaccines for the 21st Century”; CMV Workshop planning; Vaccines for special populations; and Vaccines for chronic diseases.

Name: Subcommittee on Immunization Coverage.

Time and Date: 2:45 p.m.-5 p.m., February 28, 2000.

Place: Hubert H. Humphrey Building, Room 505A, 200 Independence Avenue, SW, Washington, DC 20201.

Status: Open to the public, limited only by the space available.

Purpose: This subcommittee will identify and propose solutions that provide a multifaceted and holistic approach to reducing barriers that result in low immunization coverage for children.

Matters to be Discussed: Agenda items will include updates on the Working Group on Adult Immunization Standards; the implementation of NVAC's recommendations on Adult Immunization; the process for Strategies to Sustain Success paper; discussions of Philosophical Exemptions; and discussions on Adolescent Immunization.

Name: Subcommittee on Vaccine Safety and Communication.

Time and Date: 2:45 p.m.-5 p.m., February 28, 2000.

Place: Hubert H. Humphrey Building, Room 325A, 200 Independence Avenue, SW, Washington, DC 20201.

Status: Open to the public, limited only by the space available.

Purpose: This subcommittee reviews issues relevant to vaccine safety and adverse reactions to vaccines.

Matters to be Discussed: Plans for NVAC Workshop on Risk Communication; Plans for a Workshop on Surveillance for Rare Events; update on Pediatric Standards of Immunization; update on Rotavirus Vaccine.

Agenda items are subject to change as priorities dictate.

FOR FURTHER INFORMATION: Gloria Sagar, Committee Management Specialist, NVPO, CDC, 1600 Clifton Road, NE, M/S D-66, Atlanta, Georgia 30333, telephone 404/687-6672.

The Director, Management Analysis and Services Office, has been delegated the authority to sign Federal Register notices pertaining to announcements of meetings and other committee management activities, for both the Centers for Disease Control and Prevention and the Agency for Toxic Substances and Disease Registry.

Dated: February 2, 2000.
Carolyn J. Russell,
Director, Management Analysis and Services Office, Centers for Disease Control and Prevention.

[FR Doc. 00-2900 Filed 2-8-00; 8:45 am]

BILLING CODE 4163-18-P